DEPARTMENT OF HEALTH AND HUMAN SERVICES

National Institutes of Health

Center for Scientific Review; Amended Notice of Meeting

Notice is hereby given of a change in the meeting of the Center for Scientific Review Special Emphasis Panel, March 3, 2009, 8 a.m. to March 4, 2009, 5 p.m., Bahia Resort Hotel, 998 W. Mission Bay Drive, San Diego, CA 92109 which was published in the Federal Register on February 10, 2009, 74 FR 6645-6647.

The meeting will be held March 3, 2009, 2 p.m. to March 4, 2009, 6 p.m. The meeting dates and location remain the same. The meeting is closed to the public.

Dated: February 13, 2009.
Jennifer Spaeth,
Director, Office of Federal Advisory Committee Policy.

[FR Doc. E9-3715 Filed 2-24-09; 8:45 am]

BILLING CODE 4140-01-M